DEPARTMENT OF HEALTH AND HUMAN SERVICES

Food and Drug Administration

[Docket No. FDA-2017-N-1129]

Medical Devices; Exemptions From Premarket Notification: Class II Devices; Request for Comments

AGENCY: Food and Drug Administration, HHS.

ACTION: Notice; request for comments.

SUMMARY: The Food and Drug Administration (FDA or Agency) has identified a list of class II devices that, when finalized, will be exempt from premarket notification requirements, subject to certain limitations. FDA is publishing this notice of that determination and requesting public comment in accordance with procedures established by the 21st Century Cures Act. This notice does not represent FDA's final determination with respect to the class II devices included in this document. FDA will review any comments submitted within the 60-day comment period and will consider whether the list of class II devices should be modified prior to publication of its final determination in the Federal Register.

DATES: Submit either electronic or written comments on the notice by May 15, 2017. Late, untimely filed comments will not be considered. Electronic comments must be submitted on or before May 15, 2017. The https://www.regulations.gov electronic filing system will accept comments until midnight Eastern Time at the end of May 15, 2017. Comments received by mail/hand delivery/courier (for written/paper submissions) will be considered timely if they are postmarked or the delivery service acceptance receipt is on or before that date.

ADDRESSES: You may submit comments as follows:

Electronic Submissions

Submit electronic comments in the following way:

• Federal eRulemaking Portal: https://www.regulations.gov. Follow the instructions for submitting comments. Comments submitted electronically, including attachments, to https://www.regulations.gov will be posted to the docket unchanged. Because your comment will be made public, you are solely responsible for ensuring that your comment does not include any confidential information that you or a third party may not wish to be posted, such as medical information, your or anyone else's Social Security number, or confidential business information, such as a manufacturing process. Please note that if you include your name, contact information, or other information that identifies you in the body of your comments, that information will be posted on https://www.regulations.gov.

• If you want to submit a comment with confidential information that you do not wish to be made available to the public, submit the comment as a written/paper submission and in the manner detailed (see “Written/Paper Submissions” and “Instructions”).

Written/Paper Submissions

Submit written/paper submissions as follows:

• Mail/Hand delivery/Courier (for written/paper submissions): Division of Dockets Management (HFA-305), Food and Drug Administration, 5630 Fishers Lane, Rm. 1061, Rockville, MD 20852.

• For written/paper comments submitted to the Division of Dockets Management, FDA will post your comment, as well as any attachments, except for information submitted, marked and identified, as confidential, if submitted as detailed in “Instructions.”

Instructions: All submissions received must include the Docket No. FDA-2017-N-1129 for “Medical Devices; Exemptions from Premarket Notification: Class II Devices.” Received comments, those filed in a timely manner (see DATES), will be placed in the docket and, except for those submitted as “Confidential Submissions,” publicly viewable at https://www.regulations.gov or at the Division of Dockets Management between 9 a.m. and 4 p.m., Monday through Friday.

• Confidential Submissions—To submit a comment with confidential information that you do not wish to be made publicly available, submit your comments only as a written/paper submission. You should submit two copies total. One copy will include the information you claim to be confidential with a heading or cover note that states “THIS DOCUMENT CONTAINS CONFIDENTIAL INFORMATION.” The Agency will review this copy, including the claimed confidential information, in its consideration of comments. The second copy, which will have the claimed confidential information redacted/blacked out, will be available for public viewing and posted on https://www.regulations.gov. Submit both copies to the Division of Dockets Management. If you do not wish your name and contact information to be made publicly available, you can provide this information on the cover sheet and not in the body of your comments and you must identify this information as “confidential.” Any information marked as “confidential” will not be disclosed except in accordance with 21 CFR 10.20 and other applicable disclosure law. For more information about FDA's posting of comments to public dockets, see 80 FR 56469, September 18, 2015, or access the information at: https://www.gpo.gov/fdsys/pkg/FR-2015-09-18/pdf/2015-23389.pdf.

Docket: For access to the docket to read background documents or the electronic and written/paper comments received, go to https://www.regulations.gov and insert the docket number, found in brackets in the heading of this document, into the “Search” box and follow the prompts and/or go to the Division of Dockets Management, 5630 Fishers Lane, Rm. 1061, Rockville, MD 20852.

FOR FURTHER INFORMATION CONTACT: Bryce Bennett, Center for Devices and Radiological Health, Food and Drug Administration, 10903 New Hampshire Ave., Bldg. 66, Rm. 5244, Silver Spring, MD 20993, 301-348-1446, email: Gregory.Bennett@fda.hhs.gov.

SUPPLEMENTARY INFORMATION:

I. Background

Under section 513 of the Federal Food, Drug, and Cosmetic Act (the FD&C Act) (21 U.S.C. 360c), FDA must classify devices into one of three regulatory classes: Class I, class II, or class III. FDA classification of a device is determined by the amount of regulation necessary to provide a reasonable assurance of safety and effectiveness. Under the Medical Device Amendments of 1976 (1976 amendments) (Pub. L. 94-295), and the amendments of the Safe Medical Devices Act of 1990 (Pub. L. 101-629), devices are to be classified into class I (general controls) if there is information showing that the general controls of the FD&C Act are sufficient to assure safety and effectiveness; into class II (special controls), if general controls, by themselves, are insufficient to provide reasonable assurance of safety and effectiveness, but there is sufficient information to establish special controls to provide such assurance; and into class III (premarket approval), if there is insufficient information to support classifying a device into class I or class II and the device is a life sustaining or life supporting device or is for a use which is of substantial importance in preventing impairment of human health or presents a potential unreasonable risk of illness or injury.

Most generic types of devices that were on the market before the date of the 1976 amendments (May 28, 1976) (generally referred to as preamendments devices) have been classified by FDA under the procedures set forth in section 513(c) and (d) of the FD&C Act through the issuance of classification regulations into one of these three regulatory classes. Devices introduced into interstate commerce for the first time on or after May 28, 1976 (generally referred to as postamendments devices) are classified through the premarket notification process under section 510(k) of the FD&C Act (21 U.S.C. 360(k)). Section 510(k) of the FD&C Act and the implementing regulations, part 807 of Title 21 of the Code of Federal Regulations (CFR), require persons who intend to market a new device to submit a premarket notification (510(k)) containing information that allows FDA to determine whether the new device is “substantially equivalent” within the meaning of section 513(i) of the FD&C Act to a legally marketed device that does not require premarket approval.

On December 13, 2016, the President signed into law the 21st Century Cures Act (Pub. L. 114-255). Section 3054 of the 21st Century Cures Act amended section 510(m) of the FD&C Act. As amended, section 510(m)(1)(A) of the FD&C Act requires FDA to publish in the Federal Register a notice containing a list of each type of class II device that FDA determines no longer requires a report under section 510(k) of the FD&C Act to provide reasonable assurance of safety and effectiveness. FDA is required to publish this notice within 90 days of the date of enactment of the 21st Century Cures Act and at least once every 5 years thereafter, as FDA determines appropriate. Additionally, FDA must provide at least a 60-day comment period for any such notice required to be published under section 510(m)(1)(A) of the FD&C Act. Within 210 days of enactment of the 21st Century Cures Act, FDA must publish in the Federal Register a list representing its final determination regarding the exemption of the devices that were contained in the present list published under section 510(m)(1)(A) of the FD&C Act. Section 510(m)(3) of the FD&C Act provides that upon the date of publication of the final list in the Federal Register, a 510(k) will no longer be required for these devices and the classification regulation applicable to each such type of device shall be deemed amended to incorporate such exemption.

In a final action, and after considering comments, FDA intends to amend the codified language for each listed regulation to reflect the final determination with respect to exempt devices. FDA's final action will decrease regulatory burdens on the medical device industry and will eliminate private costs and expenditures required to comply with Federal regulation. Specifically, regulated industry will no longer have to invest time and resources in 510(k) notifications, including preparation of documents and data for submission to FDA, payment of user fees associated with 510(k) submissions, and responding to questions and requests for additional information from FDA during 510(k) review.

II. Criteria for Exemption

There are a number of factors FDA may consider to determine whether a 510(k) is necessary to provide reasonable assurance of the safety and effectiveness of a class II device. These factors are discussed in the guidance the Agency issued on February 19, 1998, entitled “Procedures for Class II Device Exemptions from Premarket Notification, Guidance for Industry and CDRH Staff” (Ref. 1).

III. Limitations on Exemptions

FDA believes that the types of class II devices listed in this notice should be exempt from the premarket notification requirements found under section 510(k) of the FD&C Act. However, an exemption from the requirement of premarket notification does not mean that the device is exempt from any other statutory or regulatory requirements, unless such exemption is explicitly provided by order or regulation. FDA's initial determination that premarket notification is unnecessary to provide a reasonable assurance of safety and effectiveness for devices listed in this document is based, in part, on the assurance of safety and effectiveness that other regulatory controls, such as current good manufacturing practice requirements, provide.

In addition to being subject to the general limitations to the exemptions found in §§ 862.9 to 892.9) 21 CFR 862.9 to 892.9, FDA may partially limit the exemption from premarket notification requirements to specific devices within a listed device type. In table 1, for example, FDA is listing the exemption of the endoscopic magnetic retriever, but limits the exemption to such devices that are for single use. All other endoscopic magnetic retrievers are still subject to premarket notification requirements because FDA determined that premarket notification is necessary to provide a reasonable assurance of safety and effectiveness for these devices.

IV. List of Class II Devices

FDA is identifying the following list of class II devices that, if finalized, would no longer require premarket notification under section 510(k) of the FD&C Act, subject to the general limitations to the exemptions found in §§ 862.9 to 892.9:

Table 1—Class II Devices
21 CFR section | Device type | Product code | Partial exemption limitation (if applicable)
862.1020 | Acid Phosphatase, Nitrophenylphosphate | CJN |
862.1020 | Acid Phosphatase, Thymol Blue Monophosphate | CJR |
862.1020 | Acid Phosphatase, Disodium Phenylphosphate | CJX |
862.1020 | Acid Phosphatase, Naphthyl Phosphate | CKB |
862.1020 | Acid Phosphatase, Thymolphthale Inmonophosphate | CKE |
862.1020 | Acid Phosphatase, Beta Glycerophosphate | CKH |
862.1020 | Acid Phosphatase (Prostatic), Tartrate Inhibited | JFH |
862.1090 | Radioassay, Angiotensin Converting Enzyme | KQN |
862.1100 | Vanillin Pyruvate, AST/SGOT | CIF |
862.1100 | Diazo, AST/SGOT | CIQ |
862.1100 | Hydrazone Colorimetry, AST/SGOT | CIS |
862.1100 | NADH Oxidation/NAD Reduction, AST/SGOT | CIT |
862.1150 | Calibrator, Primary | JIS |
862.1150 | Calibrator, Secondary | JIT |
862.1150 | Calibrator, Surrogate | JIW |
862.1150 | Calibrator, Multi-Analyte Mixture | JIX |
862.1345 | Drink, Glucose Tolerance | MRV |
862.1350 | Continuous Glucose Monitor Secondary Display | PJT |
862.1445 | Chromatographic Separation, Lactate Dehydrogenase Isoenzymes | CEX |
862.1445 | Electrophoretic, Lactate Dehydrogenase Isoenzymes | CFE |
862.1445 | Differential Rate Kinetic Method, Lactate Dehydrogenase Isoenzymes | JGF |
862.1509 | System, Test, Urinary Methylmalonic Acid | LPT |
862.1685 | Radioimmunoassay, Thyroxine-Binding Globulin | CEE |
862.1700 | Radioimmunoassay, Total Thyroxine | CDX |
862.1700 | Enzyme Immunoassay, Non-Radiolabeled, Total Thyroxine | KLI |
862.2265 | High Throughput DNA Sequence Analyzer | PFF |
862.2570 | Instrumentation For Clinical Multiplex Test Systems | NSU |
862.2570 | Real Time Nucleic Acid Amplification System | OOI |
862.2570 | Mass Spectrometer For Clinical Multiplex Test Systems | OTA |
862.2570 | Micro Total Analysis Instrument System | OUE |
862.2570 | Complete Gene Expression Profiling Accessory Reagents | OVA |
862.2570 | DNA Genetic Analyzer | PCA |
862.2570 | Data Acquisition Software | PQQ |
862.3100 | Enzyme Immunoassay, Amphetamine | DKZ | Exemption is limited to test systems intended for employment and insurance testing and does not include test systems intended for Federal drug testing programs (e.g., programs run by the Substance Abuse and Mental Health Services Administration (SAMHSA), the Department of Transportation (DOT), and the U.S. military.).
862.3100 | Radioimmunoassay, Amphetamine | DJP | Exemption is limited to test systems intended for employment and insurance testing and does not include test systems intended for Federal drug testing programs (e.g., programs run by the Substance Abuse and Mental Health Services Administration (SAMHSA), the Department of Transportation (DOT), and the U.S. military.).
862.3100 | Thin Layer Chromatography, Amphetamine | DIT | Exemption is limited to test systems intended for employment and insurance testing and does not include test systems intended for Federal drug testing programs (e.g., programs run by the Substance Abuse and Mental Health Services Administration (SAMHSA), the Department of Transportation (DOT), and the U.S. military.).
862.3100 | Gas Chromatography, Amphetamine | DOD | Exemption is limited to test systems intended for employment and insurance testing and does not include test systems intended for Federal drug testing programs (e.g., programs run by the Substance Abuse and Mental Health Services Administration (SAMHSA), the Department of Transportation (DOT), and the U.S. military.).
862.3100 | Liquid Chromatography, Amphetamine | DNI | Exemption is limited to test systems intended for employment and insurance testing and does not include test systems intended for Federal drug testing programs (e.g., programs run by the Substance Abuse and Mental Health Services Administration (SAMHSA), the Department of Transportation (DOT), and the U.S. military.).
862.3150 | Enzyme Immunoassay, Barbiturate | DJL | Exemption is limited to test systems intended for employment and insurance testing and does not include test systems intended for Federal drug testing programs (e.g., programs run by the Substance Abuse and Mental Health Services Administration (SAMHSA), the Department of Transportation (DOT), and the U.S. military.).
862.3150 | Enzyme Immunoassay, Barbiturate | DIS | Exemption is limited to test systems intended for employment and insurance testing and does not include test systems intended for Federal drug testing programs (e.g., programs run by the Substance Abuse and Mental Health Services Administration (SAMHSA), the Department of Transportation (DOT), and the U.S. military.).
862.3150 | Radioimmunoassay, Barbiturate | DKN | Exemption is limited to test systems intended for employment and insurance testing and does not include test systems intended for Federal drug testing programs (e.g., programs run by the Substance Abuse and Mental Health Services Administration (SAMHSA), the Department of Transportation (DOT), and the U.S. military.).
862.3150 | Thin Layer Chromatography, Barbiturate | DKX | Exemption is limited to test systems intended for employment and insurance testing and does not include test systems intended for Federal drug testing programs (e.g., programs run by the Substance Abuse and Mental Health Services Administration (SAMHSA), the Department of Transportation (DOT), and the U.S. military.).
862.3150 | Mercury Dithiazone, Colorimetry, Barbiturate | DJN | Exemption is limited to test systems intended for employment and insurance testing and does not include test systems intended for Federal drug testing programs (e.g., programs run by the Substance Abuse and Mental Health Services Administration (SAMHSA), the Department of Transportation (DOT), and the U.S. military.).
862.3150 | Hemagglutination Inhibition, Barbiturate | DLX | Exemption is limited to test systems intended for employment and insurance testing and does not include test systems intended for Federal drug testing programs (e.g., programs run by the Substance Abuse and Mental Health Services Administration (SAMHSA), the Department of Transportation (DOT), and the U.S. military.).
862.3150 | Gas Liquid Chromatography, Barbiturate | DMF | Exemption is limited to test systems intended for employment and insurance testing and does not include test systems intended for Federal drug testing programs (e.g., programs run by the Substance Abuse and Mental Health Services Administration (SAMHSA), the Department of Transportation (DOT), and the U.S. military.).
862.3150 | High Pressure Liquid Chromatography, Barbiturate | KZY | Exemption is limited to test systems intended for employment and insurance testing and does not include test systems intended for Federal drug testing programs (e.g., programs run by the Substance Abuse and Mental Health Services Administration (SAMHSA), the Department of Transportation (DOT), and the U.S. military.).
862.3170 | Enzyme Immunoassay, Benzodiazepine | JXM | Exemption is limited to test systems intended for employment and insurance testing and does not include test systems intended for Federal drug testing programs (e.g., programs run by the Substance Abuse and Mental Health Services Administration (SAMHSA), the Department of Transportation (DOT), and the U.S. military.).
862.3170 | High Pressure Liquid Chromatography, Benzodiazepine | LAA | Exemption is limited to test systems intended for employment and insurance testing and does not include test systems intended for Federal drug testing programs (e.g., programs run by the Substance Abuse and Mental Health Services Administration (SAMHSA), the Department of Transportation (DOT), and the U.S. military.).
862.3170 | Test, Benzodiazepine, Over The Counter | NFV | Exemption is limited to test systems intended for employment and insurance testing and does not include test systems intended for Federal drug testing programs (e.g., programs run by the Substance Abuse and Mental Health Services Administration (SAMHSA), the Department of Transportation (DOT), and the U.S. military.).
862.3170 | Gas Chromatography, Benzodiazepine | KZZ | Exemption is limited to test systems intended for employment and insurance testing and does not include test systems intended for Federal drug testing programs (e.g., programs run by the Substance Abuse and Mental Health Services Administration (SAMHSA), the Department of Transportation (DOT), and the U.S. military.).
862.3170 | Thin Layer Chromatography, Benzodiazepine | LAB | Exemption is limited to test systems intended for employment and insurance testing and does not include test systems intended for Federal drug testing programs (e.g., programs run by the Substance Abuse and Mental Health Services Administration (SAMHSA), the Department of Transportation (DOT), and the U.S. military.).
862.3200 | Calibrators, Drug Mixture | DKB |
862.3200 | Calibrators, Drug Specific | DLJ |
862.3200 | Calibrators, Ethyl Alcohol | DNN |
862.3250 | Enzyme Immunoassay, Cocaine and Cocaine Metabolites | DIO | Exemption is limited to test systems intended for employment and insurance testing and does not include test systems intended for Federal drug testing programs (e.g., programs run by the Substance Abuse and Mental Health Services Administration (SAMHSA), the Department of Transportation (DOT), and the U.S. military.).
862.3250 | Radioimmunoassay, Cocaine Metabolite | KLN | Exemption is limited to test systems intended for employment and insurance testing and does not include test systems intended for Federal drug testing programs (e.g., programs run by the Substance Abuse and Mental Health Services Administration (SAMHSA), the Department of Transportation (DOT), and the U.S. military.).
862.3250 | Enzyme Immunoassay, Cocaine | JXO | Exemption is limited to test systems intended for employment and insurance testing and does not include test systems intended for Federal drug testing programs (e.g., programs run by the Substance Abuse and Mental Health Services Administration (SAMHSA), the Department of Transportation (DOT), and the U.S. military.).
862.3250 | Hemagglutination, Cocaine Metabolites (Benzoylecgonine) | DLN | Exemption is limited to test systems intended for employment and insurance testing and does not include test systems intended for Federal drug testing programs (e.g., programs run by the Substance Abuse and Mental Health Services Administration (SAMHSA), the Department of Transportation (DOT), and the U.S. military.).
862.3250 | Thin Layer Chromatography, Cocaine | DMN | Exemption is limited to test systems intended for employment and insurance testing and does not include test systems intended for Federal drug testing programs (e.g., programs run by the Substance Abuse and Mental Health Services Administration (SAMHSA), the Department of Transportation (DOT), and the U.S. military.).
862.3250 | Free Radical Assay, Cocaine | DIR | Exemption is limited to test systems intended for employment and insurance testing and does not include test systems intended for Federal drug testing programs (e.g., programs run by the Substance Abuse and Mental Health Services Administration (SAMHSA), the Department of Transportation (DOT), and the U.S. military.).
862.3250 | Gas Chromatography, Cocaine | DIN | Exemption is limited to test systems intended for employment and insurance testing and does not include test systems intended for Federal drug testing programs (e.g., programs run by the Substance Abuse and Mental Health Services Administration (SAMHSA), the Department of Transportation (DOT), and the U.S. military.).
862.3250 | Thin Layer Chromatography, Benzoylecgonine | DOM | Exemption is limited to test systems intended for employment and insurance testing and does not include test systems intended for Federal drug testing programs (e.g., programs run by the Substance Abuse and Mental Health Services Administration (SAMHSA), the Department of Transportation (DOT), and the U.S. military.).
862.3250 | High Pressure Liquid Chromatography, Cocaine and Cocaine Metabolites | LAC | Exemption is limited to test systems intended for employment and insurance testing and does not include test systems intended for Federal drug testing programs (e.g., programs run by the Substance Abuse and Mental Health Services Administration (SAMHSA), the Department of Transportation (DOT), and the U.S. military.).
862.3270 | High Pressure Liquid Chromatography, Codeine | LAE | Exemption is limited to test systems intended for employment and insurance testing and does not include test systems intended for Federal drug testing programs (e.g., programs run by the Substance Abuse and Mental Health Services Administration (SAMHSA), the Department of Transportation (DOT), and the U.S. military.).
862.3270 | Thin Layer Chromatography, Codeine | DLD | Exemption is limited to test systems intended for employment and insurance testing and does not include test systems intended for Federal drug testing programs (e.g., programs run by the Substance Abuse and Mental Health Services Administration (SAMHSA), the Department of Transportation (DOT), and the U.S. military.).
862.3270 | Gas Chromatography, Codeine | LAD | Exemption is limited to test systems intended for employment and insurance testing and does not include test systems intended for Federal drug testing programs (e.g., programs run by the Substance Abuse and Mental Health Services Administration (SAMHSA), the Department of Transportation (DOT), and the U.S. military.).
862.3580 | Radioimmunoassay, LSD (125-I) | DLB | Exemption is limited to test systems intended for employment and insurance testing and does not include test systems intended for Federal drug testing programs (e.g., programs run by the Substance Abuse and Mental Health Services Administration (SAMHSA), the Department of Transportation (DOT), and the U.S. military.).
862.3580 | Free Radical Assay, LSD | DOL | Exemption is limited to test systems intended for employment and insurance testing and does not include test systems intended for Federal drug testing programs (e.g., programs run by the Substance Abuse and Mental Health Services Administration (SAMHSA), the Department of Transportation (DOT), and the U.S. military.).
862.3610 | Gas Chromatography, Methamphetamine | LAF | Exemption is limited to test systems intended for employment and insurance testing and does not include test systems intended for Federal drug testing programs (e.g., programs run by the Substance Abuse and Mental Health Services Administration (SAMHSA), the Department of Transportation (DOT), and the U.S. military.).
862.3610 | Thin Layer Chromatography, Methamphetamine | DJC | Exemption is limited to test systems intended for employment and insurance testing and does not include test systems intended for Federal drug testing programs (e.g., programs run by the Substance Abuse and Mental Health Services Administration (SAMHSA), the Department of Transportation (DOT), and the U.S. military.).
862.3610 | High Pressure Liquid Chromatography, Methamphetamine | LAG | Exemption is limited to test systems intended for employment and insurance testing and does not include test systems intended for Federal drug testing programs (e.g., programs run by the Substance Abuse and Mental Health Services Administration (SAMHSA), the Department of Transportation (DOT), and the U.S. military.).
862.3610 | Test, Methamphetamine, Over The Counter | NGG | Exemption is limited to test systems intended for employment and insurance testing and does not include test systems intended for Federal drug testing programs (e.g., programs run by the Substance Abuse and Mental Health Services Administration (SAMHSA), the Department of Transportation (DOT), and the U.S. military.).
862.3620 | Enzyme Immunoassay, Methadone | DJR | Exemption is limited to test systems intended for employment and insurance testing and does not include test systems intended for Federal drug testing programs (e.g., programs run by the Substance Abuse and Mental Health Services Administration (SAMHSA), the Department of Transportation (DOT), and the U.S. military.).
862.3620 | Hemagglutination Inhibition, Methadone | DIW | Exemption is limited to test systems intended for employment and insurance testing and does not include test systems intended for Federal drug testing programs (e.g., programs run by the Substance Abuse and Mental Health Services Administration (SAMHSA), the Department of Transportation (DOT), and the U.S. military.).
862.3620 | Gas Chromatography, Methadone | DMB | Exemption is limited to test systems intended for employment and insurance testing and does not include test systems intended for Federal drug testing programs (e.g., programs run by the Substance Abuse and Mental Health Services Administration (SAMHSA), the Department of Transportation (DOT), and the U.S. military.).
862.3620 | Thin Layer Chromatography, Methadone | DKR | Exemption is limited to test systems intended for employment and insurance testing and does not include test systems intended for Federal drug testing programs (e.g., programs run by the Substance Abuse and Mental Health Services Administration (SAMHSA), the Department of Transportation (DOT), and the U.S. military.).
862.3620 | Liquid Chromatography, Methadone | DNT | Exemption is limited to test systems intended for employment and insurance testing and does not include test systems intended for Federal drug testing programs (e.g., programs run by the Substance Abuse and Mental Health Services Administration (SAMHSA), the Department of Transportation (DOT), and the U.S. military.).
862.3620 | Free Radical Assay, Methadone | DPP | Exemption is limited to test systems intended for employment and insurance testing and does not include test systems intended for Federal drug testing programs (e.g., programs run by the Substance Abuse and Mental Health Services Administration (SAMHSA), the Department of Transportation (DOT), and the U.S. military.).
862.3630 | Radioimmunoassay, Methaqualone | KXS | Exemption is limited to test systems intended for employment and insurance testing and does not include test systems intended for Federal drug testing programs (e.g., programs run by the Substance Abuse and Mental Health Services Administration (SAMHSA), the Department of Transportation (DOT), and the U.S. military.).
862.3640 | Thin Layer Chromatography, Morphine | DNK | Exemption is limited to test systems intended for employment and insurance testing and does not include test systems intended for Federal drug testing programs (e.g., programs run by the Substance Abuse and Mental Health Services Administration (SAMHSA), the Department of Transportation (DOT), and the U.S. military.).
862.3640 | Radioimmunoassay, Morphine (123-I), Goat Antibody Ammonium Sulfate Sep. | DOE | Exemption is limited to test systems intended for employment and insurance testing and does not include test systems intended for Federal drug testing programs (e.g., programs run by the Substance Abuse and Mental Health Services Administration (SAMHSA), the Department of Transportation (DOT), and the U.S. military.).
862.3640 | Fluorometry, Morphine | DJJ | Exemption is limited to test systems intended for employment and insurance testing and does not include test systems intended for Federal drug testing programs (e.g., programs run by the Substance Abuse and Mental Health Services Administration (SAMHSA), the Department of Transportation (DOT), and the U.S. military.).
862.3640 | Liquid Chromatography, Morphine | DPK | Exemption is limited to test systems intended for employment and insurance testing and does not include test systems intended for Federal drug testing programs (e.g., programs run by the Substance Abuse and Mental Health Services Administration (SAMHSA), the Department of Transportation (DOT), and the U.S. military.).
862.3640 | Gas Chromatography, Morphine | DMY | Exemption is limited to test systems intended for employment and insurance testing and does not include test systems intended for Federal drug testing programs (e.g., programs run by the Substance Abuse and Mental Health Services Administration (SAMHSA), the Department of Transportation (DOT), and the U.S. military.).
862.3640 | Hemagglutination Inhibition, Morphine | DLR | Exemption is limited to test systems intended for employment and insurance testing and does not include test systems intended for Federal drug testing programs (e.g., programs run by the Substance Abuse and Mental Health Services Administration (SAMHSA), the Department of Transportation (DOT), and the U.S. military.).
862.3640 | Free Radical Assay, Morphine | DOK | Exemption is limited to test systems intended for employment and insurance testing and does not include test systems intended for Federal drug testing programs (e.g., programs run by the Substance Abuse and Mental Health Services Administration (SAMHSA), the Department of Transportation (DOT), and the U.S. military.).
862.3640 | Radioimmunoassay, Morphine (3-H), Goat Antibody Ammonium Sulfate Sep. | DIQ | Exemption is limited to test systems intended for employment and insurance testing and does not include test systems intended for Federal drug testing programs (e.g., programs run by the Substance Abuse and Mental Health Services Administration (SAMHSA), the Department of Transportation (DOT), and the U.S. military.).
862.3640 | Radioimmunoassay, Morphine-Barbiturate (125-I), Goat Antibody | DNA | Exemption is limited to test systems intended for employment and insurance testing and does not include test systems intended for Federal drug testing programs (e.g., programs run by the Substance Abuse and Mental Health Services Administration (SAMHSA), the Department of Transportation (DOT), and the U.S. military.).
862.3650 | Enzyme Immunoassay, Opiates | DJG | Exemption is limited to test systems intended for employment and insurance testing and does not include test systems intended for Federal drug testing programs (e.g., programs run by the Substance Abuse and Mental Health Services Administration (SAMHSA), the Department of Transportation (DOT), and the U.S. military.).
862.3650 | Gas Chromatography, Opiates | DJF | Exemption is limited to test systems intended for employment and insurance testing and does not include test systems intended for Federal drug testing programs (e.g., programs run by the Substance Abuse and Mental Health Services Administration (SAMHSA), the Department of Transportation (DOT), and the U.S. military.).
862.3650 | Hemagglutination, Opiates | DLT | Exemption is limited to test systems intended for employment and insurance testing and does not include test systems intended for Federal drug testing programs (e.g., programs run by the Substance Abuse and Mental Health Services Administration (SAMHSA), the Department of Transportation (DOT), and the U.S. military.).
862.3650 | Thin Layer Chromatography, Opiates | LAI | Exemption is limited to test systems intended for employment and insurance testing and does not include test systems intended for Federal drug testing programs (e.g., programs run by the Substance Abuse and Mental Health Services Administration (SAMHSA), the Department of Transportation (DOT), and the U.S. military.).
862.3650 | Free Radical Assay, Opiates | DKT | Exemption is limited to test systems intended for employment and insurance testing and does not include test systems intended for Federal drug testing programs (e.g., programs run by the Substance Abuse and Mental Health Services Administration (SAMHSA), the Department of Transportation (DOT), and the U.S. military.).
862.3650 | High Pressure Liquid Chromatography, Opiates | LAH | Exemption is limited to test systems intended for employment and insurance testing and does not include test systems intended for Federal drug testing programs (e.g., programs run by the Substance Abuse and Mental Health Services Administration (SAMHSA), the Department of Transportation (DOT), and the U.S. military.).
862.3700 | Enzyme Immunoassay, Propoxyphene | JXN | Exemption is limited to test systems intended for employment and insurance testing and does not include test systems intended for Federal drug testing programs (e.g., programs run by the Substance Abuse and Mental Health Services Administration (SAMHSA), the Department of Transportation (DOT), and the U.S. military.).
862.3700 | Thin Layer Chromatography, Propoxyphene | DPN | Exemption is limited to test systems intended for employment and insurance testing and does not include test systems intended for Federal drug testing programs (e.g., programs run by the Substance Abuse and Mental Health Services Administration (SAMHSA), the Department of Transportation (DOT), and the U.S. military.).
862.3700 | Gas Chromatography, Propoxyphene | LAJ | Exemption is limited to test systems intended for employment and insurance testing and does not include test systems intended for Federal drug testing programs (e.g., programs run by the Substance Abuse and Mental Health Services Administration (SAMHSA), the Department of Transportation (DOT), and the U.S. military.).
862.3700 | High Pressure Liquid Chromatography, Propoxyphene | LAK | Exemption is limited to test systems intended for employment and insurance testing and does not include test systems intended for Federal drug testing programs (e.g., programs run by the Substance Abuse and Mental Health Services Administration (SAMHSA), the Department of Transportation (DOT), and the U.S. military.).
862.3870 | Enzyme Immunoassay, Cannabinoids | LDJ | Exemption is limited to test systems intended for employment and insurance testing and does not include test systems intended for Federal drug testing programs (e.g., programs run by the Substance Abuse and Mental Health Services Administration (SAMHSA), the Department of Transportation (DOT), and the U.S. military.).
862.3870 | Reagents, Test, Tetrahydrocannabinol | DKE | Exemption is limited to test systems intended for employment and insurance testing and does not include test systems intended for Federal drug testing programs (e.g., programs run by the Substance Abuse and Mental Health Services Administration (SAMHSA), the Department of Transportation (DOT), and the U.S. military.).
862.3870 | Radioimmunoassay, Cannabinoid(S) | LAT | Exemption is limited to test systems intended for employment and insurance testing and does not include test systems intended for Federal drug testing programs (e.g., programs run by the Substance Abuse and Mental Health Services Administration (SAMHSA), the Department of Transportation (DOT), and the U.S. military.).
862.3910 | High Pressure Liquid Chromatography, Tricyclic Antidepressant Drugs | LFI | Exemption is limited to test systems intended for employment and insurance testing and does not include test systems intended for Federal drug testing programs (e.g., programs run by the Substance Abuse and Mental Health Services Administration (SAMHSA), the Department of Transportation (DOT), and the U.S. military.).
862.3910 | U.V. Spectrometry, Tricyclic Antidepressant Drugs | LFH | Exemption is limited to test systems intended for employment and insurance testing and does not include test systems intended for Federal drug testing programs (e.g., programs run by the Substance Abuse and Mental Health Services Administration (SAMHSA), the Department of Transportation (DOT), and the U.S. military.).
862.3910 | Thin Layer Chromatography, Tricyclic Antidepressant Drugs | MLK | Exemption is limited to test systems intended for employment and insurance testing and does not include test systems intended for Federal drug testing programs (e.g., programs run by the Substance Abuse and Mental Health Services Administration (SAMHSA), the Department of Transportation (DOT), and the U.S. military.).
864.5400 | Fibrometer | GIE |
864.5400 | Timer, Coagulation | JBT |
864.5425 | Control, Plasma, Abnormal | GGC |
864.5425 | Plasma, Coagulation Control | GGN |
864.5425 | Plasma, Control, Normal | GIZ |
864.6550 | Control, Fecal Occult Blood | OSL |
864.6650 | Study, Platelet Adhesive | JBZ |
864.7275 | Test, Euglobulin Lysis | JBO |
864.7300 | Fibrin Monomer Paracoagulation | JBN |
864.7340 | Fibrinogen Standard | GFX |
864.7340 | Plasma, Fibrinogen Control | GIL |
864.7375 | Glutathione, Red-Cell | GII |
864.7375 | Fluorescence, Visual Observation (Qual., U.V.), Glutathione Reductase | JMH |
864.7375 | Assay, Glutathione Reductase | KQF |
864.7415 | Control, Hemoglobin, Abnormal | JCM |
864.7455 | Stain, Fetal Hemoglobin | GHQ |
864.7500 | Acid Hematin | GGF |
864.7720 | Test, Prothrombin Consumption | GGQ |
864.7735 | Prothrombin-Proconvertin and Thrombotest | JPF |
864.8150 | Calibrator for Cell Indices | KRX |
864.8165 | Calibrator for Hemoglobin and Hematocrit Measurement | KRZ |
864.8175 | Calibrator for Platelet Counting | KRY |
864.8185 | Calibrator for Red-Cell and White-Cell Counting | KSA |
864.8625 | Standards and Controls, Hemoglobin, Normal and Abnormal | GFS |
864.8625 | Control, White-Cell | GGL |
864.8625 | Control, Hemoglobin | GGM |
864.8625 | Control, Platelet | GJP |
864.8625 | Control, Red-Cell | GJR |
864.8625 | Control, Hematocrit | GLK |
864.8625 | Mixture, Control, White-Cell and Red-Cell Indices | GLQ |
864.8625 | Control, Cell Counter, Normal and Abnormal | JCN |
864.8625 | Mixture, Hematology Quality Control | JPK |
864.8625 | Material, Quality Control, Semen Analysis | NRF |
864.8625 | Control Material, Blood Circulating Epithelial Cancer Cell | NRS |
864.9400 | Solution, Stabilized Enzyme | KSK |
866.3395 | Norovirus Serological Reagents | OUC |
866.5210 | Immunochemical, Ceruloplasmin | CHN |
866.5210 | Ceruloplasmin, Rhodamine, Antigen, Antiserum, Control | DCT |
866.5210 | Ceruloplasmin, FITC, Antigen, Antiserum, Control | DCY |
866.5210 | Ceruloplasmin, Antigen, Antiserum, Control | DDB |
866.5210 | P-Phenyl-Enediamine/EDTA (Spectrophotometric), Ceruloplasmin | JFQ |
866.5210 | Indirect Copper Assay, Ceruloplasmin | JFR |
866.5470 | Hemoglobin, Chain Specific, Antigen, Antiserum, Control | DAM |
866.5620 | Alpha-2-Macroglobulin, Rhodamine, Antigen, Antiserum, Control | DDT |
866.5620 | Alpha-2-Macroglobulin, FITC, Antigen, Antiserum, Control | DDY |
866.5620 | Alpha-2-Macroglobulin, Antigen, Antiserum, Control | DEB |
866.5630 | System, Test, Beta-2-Microglobulin Immunological | JZG |
866.5750 | System, Test, Radioallergosorbent (RAST) Immunological | DHB | Exemption is limited to devices classified under 21 CFR 866.5750 that are intended to detect any of the allergens included in table 2 of this document.
866.5910 | Quality Control Material, Genetics, DNA | NZB |
868.1040 | Algesimeter, Powered | BSI |
868.1400 | Legging, Compression, Non-Inflatable | LLK |
868.2385 | Analyzer, Nitrogen Dioxide | MRQ | Exemption is limited to standalone nitrogen dioxide analyzers and not those that are components of nitric oxide delivery systems intended to monitor nitrogen dioxide levels during inhaled nitric oxide therapy.
868.2500 | Monitor, Oxygen, Cutaneous, For Infant Not Under Gas Anesthesia | KLK |
868.2500 | Monitor, Oxygen, Cutaneous, For Uses Other Than For Infant Not Under Gas Anesthesia | LPP |
868.2550 | Pneumotachometer | JAX |
868.5180 | Bed, Rocking, Breathing Assist | CCO |
868.6250 | Compressor, Air, Portable | BTI |
870.1330 | Wire, Guide, Catheter | DQX | Exemption is limited to accessory torque devices that are manually operated, non-patient contacting, and intended to manipulate non-cerebral vascular guide wires.
870.1390 | Trocar | DRC |
870.1650 | Syringe, Balloon Inflation | MAV | Exemption is limited to non-patient contacting balloon inflation syringes intended only to inflate/deflate balloon catheters and monitor pressure within the balloon.
870.1875 | Lung Sound Monitor | OCR |
870.2675 | Oscillometer | DRZ |
870.2770 | Analyzer, Body Composition | MNW | Exemption is limited to body composition analyzers which are not intended to diagnose or treat any medical condition.
870.4280 | Filter, Prebypass, Cardiopulmonary Bypass | KRJ |
870.4290 | Adaptor, Stopcock, Manifold, Fitting, Cardiopulmonary Bypass | DTL |
870.4340 | Monitor and/or Control, Level Sensing, Cardiopulmonary Bypass | DTW |
870.4400 | Reservoir, Blood, Cardiopulmonary Bypass | DTN | Exemption is limited to cardiopulmonary bypass blood reservoirs that do not contain defoamers or blood filters.
870.4420 | Sucker, Cardiotomy Return, Cardiopulmonary Bypass | DTS |
870.4430 | Suction Control, Intracardiac, Cardiopulmonary Bypass | DWD |
872.1720 | Tester, Pulp | EAT |
872.3260 | External Cleaning Solution | PME |
872.3300 | Coating, Denture Hydrophilic, Resin | EBE |
872.3540 | Pad, Denture, Over The Counter | EHR |
872.3540 | Cushion, Denture, Over The Counter | EHS |
872.3560 | Reliner, Denture, Over The Counter | EBP |
872.3590 | Denture, Plastic, Tooth | ELM |
872.3600 | Denture Preformed (Partially Prefabricated Denture) | EKO |
872.3890 | Splint, Endodontic Stabilizing | ELS |
872.5550 | Ring, Teething, Fluid-Filled | KKO |
872.6770 | Syringe, Cartridge | EJI |
874.1090 | Tester, Auditory Impedance | ETY | Exemption is limited to auditory impedance testers that are in compliance with FDA-recognized consensus standard ANSI S3.39.
874.1090 | Tympanometer | NAS | Exemption is limited to tympanometers that are in compliance with FDA-recognized consensus standard ANSI S3.39.
874.1120 | Generator, Electronic Noise (for Audiometric Testing) | ETS |
874.1325 | Electroglottograph | KLX |
874.3310 | Calibrator, Hearing Aid/Earphone and Analysis Systems | ETW |
874.3320 | Hearing Aid, Group and Auditory Trainer | EPF |
874.3320 | Device, Assistive Listening | LZI |
874.3330 | Hearing Aid, Master | KHL |
874.3430 | Mold, Middle-Ear | ETC |
874.3730 | Device, Voice Amplification | MCK |
876.1500 | Endoscopic Magnetic Retriever | FCC | Exemption is limited to endoscopic magnetic retrievers intended for single use.
876.1500 | Light Source, Incandescent, Diagnostic | FCQ |
876.1500 | Light Source, Photographic, Fiberoptic | FCR |
876.1500 | Light Source, Fiberoptic, Routine | FCW |
876.1500 | Carrier, Sponge, Endoscopic | FGS |
876.1500 | Light Source, Endoscope, Xenon Arc | GCT |
876.1500 | Transformer, Endoscope | GCW |
876.1500 | Scissors For Cystoscope | KGD | Exemption is limited to sterile scissors for cystoscope intended for single use.
876.1500 | LED Light Source | NTN |
876.1500 | Endoscopic Guide Wire, Gastroenterology-Urology | OCY |
876.1500 | Endoscopic Grasping/Cutting Instrument, Non-Powered | OCZ | Exemption is limited to disposable, non-powered endoscopic grasping/cutting instruments intended for single use.
876.4020 | Light, Catheter, Fiberoptic, Glass, Ureteral | FCS |
876.4270 | Rod, Colostomy | EZP |
876.4400 | Ligator, Hemorrhoidal | FHN |
876.4400 | Ligator, Esophageal | MND |
876.4500 | Lithotriptor, Biliary Mechanical | LQC |
876.4770 | Urethrotome | EZO |
876.5010 | Bag, Bile Collecting | EXF |
876.5010 | Catheter, Biliary, Surgical | GCA | Exemption is limited to surgical biliary catheters that do not include a balloon component.
876.5025 | Vibrator for Climax Control of Premature Ejaculation | PIA |
876.5365 | Dilator, Esophageal (Metal Olive) Gastro-Urology | EZM |
876.5365 | Bougie, Esophageal, and Gastrointestinal, Gastro-Urology | FAT |
876.5365 | Dilator, Esophageal | KNQ |
876.5520 | Dilator, Urethral | KOE |
876.5630 | Catheter, Peritoneal, Long-Term Indwelling | FJS | Exemption is limited to non-patient contacting catheter finger grips intended for single use.
876.5630 | Catheter, Peritoneal Dialysis, Single Use | FKO | Exemption is limited to non-patient contacting catheter finger grips intended for single use.
876.5630 | System, Peritoneal, Automatic Delivery | FKX | Exemption is limited to continuous ambulatory peritoneal dialysis (CAPD) belts and catheter stands that do not include weigh scales.
876.5665 | Disinfectant, Subsystem, Water Purification | NIH |
876.5820 | Set, Dialyzer Holder | FKI |
876.5895 | Irrigator, Ostomy | EXD |
876.5980 | Catheter, Retention, Barium Enema With Bag | FGD |
876.5980 | Gastrostomy Tube Holder | PLI |
878.4370 | Drape, Surgical, ENT | ERY |
878.4370 | Drape, Pure Latex Sheet, With Self-Retaining Finger Cot | EYX |
878.4370 | Drape, Urological, Disposable | EYY |
878.4370 | Pad, Kelly | FNW |
878.4370 | Drape, Patient, Ophthalmic | HMT |
878.4370 | Drape, Microscope, Ophthalmic | HMW |
878.4370 | Ring (Wound Protector), Drape Retention, Internal | KGW |
878.4370 | Drape, Surgical | KKX | Exemption is limited to surgical drapes that do not include an antimicrobial agent.
878.4495 | Suture, Nonabsorbable, Steel, Monofilament And Multifilament, Sterile | GAQ | Exemption is limited to steel monofilament sutures that are uncoated and do not incorporate barbs.
878.4580 | Lamp, Operating-Room | FQP |
878.4580 | Light, Surgical, Instrument | FSQ |
878.4580 | Light, Surgical, Floor Standing | FSS |
878.4580 | Light, Surgical, Endoscopic | FSW |
878.4580 | Light, Surgical, Connector | FSX |
878.4580 | Light, Surgical, Ceiling Mounted | FSY |
878.4580 | Light, Surgical, Carrier | FSZ |
878.4580 | Light, Surgical, Accessories | FTA |
878.4580 | Lamp, Surgical | FTD |
878.4580 | Illuminator, Remote | FTG |
878.4580 | Lamp, Surgical, Incandescent | GBC |
878.5070 | Apparatus, Air Handling, Bench | FZG |
878.5070 | Apparatus, Air Handling, Room | FZH |
878.5070 | Apparatus, Air Handling, Enclosure | FZI |
880.5580 | Locator, Acupuncture Point | BWJ |
880.5580 | Needle, Acupuncture, Single Use | MQX |
880.5780 | Stocking, Medical Support (to Prevent Pooling of Blood in Legs) | DWL |
882.1020 | Analyzer, Rigidity | GZM |
882.1470 | Computerized Cognitive Assessment Aid | PKQ | Exemption is limited to computerized cognitive assessment aids that are not intended for diagnostic assessment of specific diseases or conditions and rely on inputs from visual cues, auditory cues, and/or functional use of the hand.
882.1540 | Device, Galvanic Skin Response Measurement | GZO |
882.1560 | Device, Skin Potential Measurement | HCJ |
882.1855 | Encephalogram Telemetry System | GYE |
882.5895 | Vibratory Counter-Stimulation | OVP |
884.1630 | Colposcope (and Colpomicroscope) | HEX | Exemption is limited to standard colposcopes (and colpomicroscopes) that use only a white light source, do not use filters other than a green filter, do not include image analysis software, and are not smartphone-based.
884.2990 | Sheet, Recording, Breast Examination | NHM |
884.3200 | Drain, Cervical | HFL |
884.4400 | Forceps, Obstetrical | HDA |
884.4530 | Tenaculum, Uterine | HDC | Exemption is limited to sterile urterine tenaculum devices that do not use suction and are intended for single use.
884.4530 | Clamp, Umbilical | HFW |
884.4530 | Speculum, Vaginal, Nonmetal | HIB |
884.4530 | Speculum, Vaginal, Nonmetal, Fiberoptic | HIC |
884.4530 | Clamp and Cutter, Umbilical | NBZ |
884.4900 | Table, Obstetrical, AC-Powered (and Accessories) | HDD |
884.4900 | Table, Obstetrical, Manual (and Accessories) | HHP |
884.4900 | Table, Obstetric (and Accessories) | KNC |
884.5200 | Hemorrhoid Prevention Pressure Wedge | OOA |
884.5390 | Heater, Perineal, Direct Contact | HGZ |
884.5390 | Heater, Perineal, Radiant, Non-Contact | HHA |
884.5390 | Heater, Perineal | KND |
884.5400 | Cup, Menstrual | HHE |
884.5425 | Pad, Menstrual, Scented | HHL |
884.6120 | Accessory, Assisted Reproduction | MQG | Exemption is limited to single embryo incubators with temperature, gas, and humidity control only; syringe pumps; collection tube warmers; dish/plate/microscope stage warmers; and controlled-rate cryopreservation freezers.
884.6130 | Microtools, Assisted Reproduction (Pipettes) | MQH | Exemption is limited to assisted reproduction microtools (pipettes) manufactured from glass.
884.6150 | Micromanipulators and Microinjectors, Assisted Reproduction | MQJ |
884.6160 | Labware, Assisted Reproduction | MQK | Exemption is limited to dishes and plates that are intended for general assisted reproduction technology procedures.
886.1120 | Photorefractor | MMF |
886.1120 | Camera, Ophthalmic, General-Use | PJZ |
886.1250 | Euthyscope, AC-Powered | HMK |
886.1570 | Ophthalmoscope, AC-Powered | HLI |
886.1570 | Ophthalmoscope, Battery-Powered | HLJ |
886.1570 | Ophthalmoscopes, Replacement Batteries, Hand-Held | MSG |
886.1780 | Retinoscope, AC-Powered | HKL |
886.1850 | Biomicroscope, Slit-Lamp, AC-Powered | HJO | Exemption is limited to slit-lamp, AC-powered biomicroscopes intended only for the visual examination of the anterior segment of the eye, are classified as Group 1 per FDA-recognized consensus standard ANSI Z80.36, do not provide any quantitative output, and are not intended for screening or automated diagnostic indications.
886.1945 | Transilluminator, AC-Powered | HJM |
886.3320 | Ocular Peg | MQU | Exemption is limited to ocular pegs supplied sterile.
886.4150 | Tubing, Replacement, Phacofragmentation Unit | MSR |
886.4250 | Unit, Electrolysis, AC-Powered, Ophthalmic | HRO |
886.4335 | Headlight, Fiberoptic Focusing | FCT |
886.4335 | Light, Headband, Surgical | FSR |
886.4335 | Headlamp, Operating, AC-Powered | HPQ |
886.4400 | Locator, Metal, Electronic | HPM |
886.4440 | Magnet, AC-Powered | HPO |
886.4790 | Sponge, Ophthalmic | HOZ |
886.4790 | Eye Tray | OJK |
888.1240 | Dynamometer, AC-Powered | LBB |
888.4580 | Instrument, Surgical, Sonic and Accessory/Attachment | JDX |
888.4580 | System, Cement Removal Extraction | LZV |
890.1450 | Hammer, Reflex, Powered | IKO |
890.5100 | Bath, Hydro-Massage | ILJ |
890.5100 | Bath, Sitz, Powered | ILM |
890.5110 | Bath, Paraffin | IMC |
890.5250 | Cabinet, Moist Steam | IMB |
890.5360 | Exerciser, Measuring | ISD |
890.5500 | Lamp, Infrared, Therapeutic Heating | ILY |
890.5575 | Device, Warning, Overload, External Limb, Powered | IRN |
892.1000 | MRI Disposable Kit | OIM |
892.1560 | Biopsy Needle Guide Kit | OIJ |
892.1610 | Aperature, Radiographic | IZS |
892.1610 | Cone, Radiographic | IZT |
892.1610 | Collimator, Automatic, Radiographic | IZW |
892.1610 | Collimator, Manual, Radiographic | IZX |
892.1610 | Device, Beam Limiting, X-Ray, Diagnostic | KPW |
892.1650 | Arthrogram Tray | OII |
892.1650 | Radiology Dental Tray | OIK |
892.1670 | Device, Spot-Film | IXL |
892.1680 | Radiographic Contrast Tray | OIO |
892.1680 | Radiology Diagnostic Kit | OIP |
892.1730 | Discography Kit | OIL |
892.1820 | Chair, Pneumocephalographic | HBK |
892.1850 | Cassette, Radiographic Film | IXA |
892.1860 | Changer, Radiographic Film/Cassette | KPX |
892.1870 | Programmer, Changer, Film/Cassette, Radiographic | IZP |
892.1900 | Controller, Temperature, Radiographic | EGT |
892.1900 | Dryer, Film, Radiographic | EGW |
892.1900 | Processor, Radiographic-Film, Automatic, Dental | EGY |
892.1900 | Processor, Radiographic-Film, Automatic | IXW |
892.1900 | Processor, Cine Film | IXX |
892.2030 | Digitizer, Image, Radiological | LMA |
892.2030 | Digitizer, Images, Ophthalmic | NFH |
892.2040 | Camera, Multi Format, Radiological | LMC |
892.2040 | Device, Hardcopy, Images, Ophthalmic | NFI |
892.5730 | Prostate Seeding Kit | OIN |

In table 1, FDA included devices classified under § 866.5750 (Radioallergosorbent (RAST) immunological test system, product code “DHB”). FDA does not believe that all devices with the product code DHB meet the exemption criteria from premarket notification requirements. However, FDA is identifying a substantial amount of these devices for exemption in table 2.

Table 2—Class II Devices (§ 866.5750—Radioallergosorbent (RAST) Immunological Test Systems)
Allergen code | Allergen product | Source (taxonomical name)
Grass Pollens
g1 | Sweet vernal grass | Anthoxanthum odoratum.
g3 | Cocksfoot grass, Orchard grass | Dactylis glomerata.
g4 | Meadow fescue | Festuca elatior.
g5 | Rye-grass (perennial rye grass) | Lolium perenne.
g7 | Common reed (common reed grass) | Phragmites communis.
g8 | Meadow grass, Kentucky blue (June grass) | Poa pratensis.
g9 | Redtop, Bentgrass | Agrostis stolonifera, Agrostis gigantea (Agrostis alba).
g11 | Brome grass | Bromus inermis.
g12 | Cultivated rye (cultivated rye grass) | Secale cereale.
g13 | Velvet grass | Holcus lanatus.
g14 | Cultivated oat (cultivated oat grass) | Avena sativa.
g15 | Cultivated wheat (cultivated wheat grass) | Triticum aestivum (Triticum spp.).
g16 | Meadow foxtail (meadow foxtail grass) | Alopecurus pratensis.
g17 | Bahia grass | Paspalum notatum.
g24 | Wheat grass, Western | Agropyron smithii (Elymus smithii).
g30 | Bluegrass, annual | Poa annua.
g70 | Wild rye grass | Elymus triticoides, Elymus condensatus.
g71 | Canary grass | Phalaris arundinacea.
g201 | Barley, cultivated | Hordeum vulgare.
g202 | Maize, corn (cultivated corn) | Zea mays.
g203 | Salt grass | Distichlis spicata.
g204 | False oat-grass | Arrhenatherum elatius.
g216 | Cyn d 1 | Cynodon dactylon.
g701 | Phl p 1.0102, Phl p 5.0101 | Phleum pratense.
g702 | Phl p 7.0101 | Phleum pratense.
g703 | Phl p 12.0101 | Phleum pratense.
Weed Pollens
w2 | Western ragweed | Ambrosia psilostachya.
w4 | False ragweed | Ambrosia acanthicarpa (Franseria acanthicarpa).
w5 | Wormwood | Artemisia absinthium, Artemisia annua.
w6 | Mugwort | Artemisia vulgaris.
w7 | Marguerite, ox-eye daisy | Chrysanthemum leucanthemum.
w8 | Dandelion | Taraxacum vulgare, Taraxacum officinale.
w9 | Plantain (English), Ribwort | Plantago lanceolata.
w10 | Goosefoot, lamb's quarters | Chenopodium album.
w11 | Saltwort (prickly), Russian thistle | Salsola kali (Salsola pestifer).
w12 | Goldenrod | Solidago virgaurea (Solidago spp.).
w13 | Cocklebur, common | Xanthium commune.
w14 | Common pigweed (rough pigweed) | Amaranthus retroflexus.
w15 | Scale, Lenscale | Atriplex lentiformis.
w16 | Rough marsh elder | Iva ciliate, Iva annua.
w17 | Firebush (Kochia) | Kochia scoparia.
w18 | Sheep sorrel | Rumex acetosella.
w19 | Wall pellitory | Parietaria officinalis.
w20 | Nettle (Common stinging nettle) | Urtica dioica.
w21 | Wall pellitory | Parietaria judaica.
w22 | Japanese hop (careless weed) | Humulus japonicas (Humulus scandens).
w23 | Yellow dock, Yellow dockweed | Rumex crispus.
w24 | Spiny pigweed | Amaranthus spinosus.
w27 | Carnation | Dianthus spp.
w28 | Rose | Rosa rugosa.
w33 | Clover | Trifolium pratense.
w35 | Mexican tea | Chenopodium ambrosioides.
w36 | Rabbit bush | Ambrosia deltoidea (Franseria deltoides).
w37 | Salt bush, annual | Atriplex wrightii.
w39 | Water hemp, Western | Amaranthus rudis (Acnida tamariscina).
w41 | Burrobrush | Hymenoclea salsola.
w42 | Poverty weed
w43 | Common sagebrush | Artemisia tridentata.
w45 | Alfalfa | Medicago sativa.
w46 | Dog fennel | Eupatorium capillifolium.
w53 | Geranium | Geranium spp.
w67 | Groundsel bush | Baccharis halimifolia.
w69 | Iodine bush | Allenrolfea occidentalis.
w70 | Ragweed, slender | Ambrosia confertiflora.
w75 | Wing scale (wingscale) | Atriplex canescens.
w82 | Careless weed | Amaranthus palmeri, Amaranthus hybridus.
w90 | Japanese hop | Humulus japonicas (Humulus scandens).
w203 | Rape (rape pollen) | Brassica napus.
w204 | Sunflower | Helianthus annuus.
w206 | Camomile | Matricaria chamomilla.
w207 | Lupin | Lupinus spp.
w210 | Sugar-beet | Beta vulgaris.
w211 | Par j 2.0101 | Parietaria judaica.
w231 | Art v 1 | Artemisia vulgaris (Mugwort).
w232 | Sal k 1 | Salsola kali.
w233 | Art v 3 | Artemisa vulgaris (LTP, Mugwort).
w234 | Pla l 1 | Plantago lanceolata.
w235 | Che a 1.0101 | Chenopodium album.
w236 | Mer a 1.0101 | Mercurialis annua.
a753 | Art v 1 | Artemisia vulgaris (Mugwort weed).
Tree Pollens
t1 | Box-elder (Maple) | Acer negundo, Acer saccharum.
t2 | Gray alder, speckled alder (alder) | Alnus incana.
t4 | Hazel, hazelnut | Corylus avellana, Corylus americana.
t5 | American beech (beech) | Fagus grandifolia (Fagus americana).
t6 | Mountain juniper, Mountain cedar | Juniperus ashei (Juniperus sabinoides).
t8 | Elm | Ulmus americana.
t9 | Olive | Olea europaea.
t10 | Walnut | Juglans californica, Juglans nigra.
t11 | Maple leaf sycamore, London plane, Plane tree | Platanus acerifolia.
t61 | Sycamore | Platanus occidentalis.
t12 | Willow | Salix caprea, Salix nigra.
t14 | Cottonwood (Eastern Cottonwood/Black Cottonwood) | Populus deltoides.
t15 | White ash | Fraxinus americana.
t16 | White pine | Pinus strobus.
t18 | Eucalyptus, gum-tree | Eucalyptus globulus (Eucalyptus spp.).
t19/t26 | Acacia | Acacia longifolia (Acacia spp.).
t20 | Mesquite | Prosopis glandulosa/ Prosopis juliflora.
t21 | Melaleuca, cajeput tree | Melaleuca quinquenervia (Melaleuca leucadendron).
t22 | Pecan, hickory | Carya illinoinensis (Carya pecan).
t23 | Italian/Mediterranean/funeral cypress | Cupressus sempervirens.
t24 | Japanese cypress | Chamaecyparis obtusa (Chamaecyparis spp.).
t25 | Ash | Fraxinus excelsior.
t27 | Maple, red | Acer rubrum.
t29 | Acacia | Acacia spp.
t30 | Birch, white | Betula populifolia.
t32 | Willow, black | Salix nigra.
t33 | Ash, Arizona | Fraxinus velutina.
t35 | Cedar, salt | Tamarix gallica.
t37 | Bald cypress (white bald cypress) | Taxodium distichum.
t38 | Elm, Chinese/Siberian | Ulmus pumila.
t40 | Hazelnut tree | Corylus americana.
t41 | White hickory | Carya alba (Carya tomentosa).
t42 | Oak, red | Quercus rubra.
t43 | Loblolly pine | Pinus taeda.
t44 | Hackberry | Celtis occidentalis.
t45 | Cedar elm | Ulmus crassifolia.
t47 | Juniper, one seed | Juniperus monosperma.
t48 | Pine, lodgepole | Pinus contorta.
t49 | Pine, ponderosa | Pinus ponderosa.
t50 | Beech, European | Fagus sylvatica.
t51 | Tree of Heaven | Ailanthus altissima.
t52 | Western white pine | Pinus monticola.
t54 | Russian olive | Elaeagnus angustifolia.
t55 | Scotch broom | Cytisus scoparius.
t56 | Bayberry | Myrica cerifera.
t57 | Red cedar | Juniperus virginiana.
t60 | Western juniper | Juniperus occidentalis.
t61 | Sycamore | Platanus occidentalis.
t70 | Mulberry (white mulberry) | Morus alba.
t71 | Red mulberry | Morus rubra.
t72 | Queen palm | Arecastrum romanzoffiamon.
t73 | Australian pine | Casuarina equisetifolia.
t77 | Oak mix (red, white, black) | Quercus spp.
t80 | Japanese cypress | Chamaecyparis obtusa.
t81 | Japanese alder | Alnus japonica.
t83 | Mango tree | Mangifera indica.
t90 | Walnut, black | Juglans nigra.
t96 | Poplar, white (poplar) | Populus alba.
t103/t218 | Virginia live oak (live oak) | Quercus virginiana.
t105 | Pepper tree | Schinus molle.
t110 | Orange tree | Citrus sinensis.
t201 | Spruce, Norway spruce | Picea abies (Picea excelsa).
t202 | Alder, smooth | Alnus incana spp. Rugosa (Alnus rugosa).
t203 | Horse chestnut | Aesculus hippocastanum.
t205 | Elder | Sambucus nigra.
t206 | Chestnut | Castanea sativa.
t207 | Douglas fir | Pseudotsuga menziesii (Pseudotsuga taxifolia).
t208 | Linden | Tilia cordata.
t209 | Horn beam | Carpinus betulus.
t210 | Privet | Ligustrum vulgare.
t211 | Sweet gum | Liquidambar styraciflua.
t212 | Cedar | Libocedrus decurrens.
t213 | Pine | Pinus radiata.
t214 | Date palm | Phoenix canariensis.
t215 | Lilac | Syringa vulgaris.
t217 | Pepper tree | Schinus molle.
t217 | Red alder | Alnus rubra.
t218 | Virginia live oak | Quercus virginiana.
t218 | Bayberry (bayberry/sweet gale) | Myrica gale.
t219 | Palo verde | Cercidium floridum.
t219 | Red cedar | Juniperus virginiana.
t220 | Bet v 4 | Betula verrucosa (Birch).
t221 | Bet v 2.0101, Bet v 4 | Betula verrucosa (Birch).
t222 | Cypress (Arizona cypress) | Cupressus arizonica.
t223 | Oil palm | Elaeis guineensis.
t224 | Ole e 1 | Olea europaea.
t225 | Bet v 6 | Betula verrucosa (Birch).
t226 | Cup a 1 | Cupressus arizonica.
t227 | Ole e 7 | Olea Europaea.
t228 | Aspen, quaking | Populus tremuloides.
t229 | Eastern hemlock | Tsuga canadensis.
t230 | Redwood (sequoia) | Sequoia sempervirens.
t232 | Pussy willow | Salix discolor.
t240 | Ole e 9.0101 | Olea Europaea.
t241 | Pla a 1.0101 | Platanus acerifolia.
t242 | Pla a 2 | Platanus acerifolia.
t243 | Pla a 3.0101 | Platanus acerifolia.
t244 | Cor a 1.0103 | Corylus avellana.
t245 | Aln g 1.0101 | Alnus glutinosa.
t246 | Cry j 1 | Cryptomeria japonica.
t280 | Locust tree | Robinia pseudoacacia.
t401 | Brazilian peppertree | Schinus terebinthifolius.
t402 | Mastic tree | Pistacia lentiscus.
t404 | Tree of heaven | Ailanthus altissima.
t406 | Date palm | Phoenix dactylifera.
a482 | Ole e 1 | Olea europaea (Olive Oil).
Mites
d207 | Blo t 5.0101 | Blomia tropicalis.
d208 | Lep d 2.0101 | Lepidoglyphus destructor.
Microorganisms, Molds, Yeast
m1 | Penicillium chrysogenum (Penicillium notatum) | Penicillium chrysogenum (Penicillium notatum).
m2 | Cladosporium herbarum (Hormodendrum) | Cladosporium herbarum (Hormodendrum).
m3 | Aspergillus fumigatus | Aspergillus fumigatus.
m4 | Mucor racemosus | Mucor racemosus.
m5 | Candida albicans | Candida albicans.
m7 | Botrytis cinerea | Botrytis cinerea.
m8 | Drechslera halodes (Setomelanomma rostrata, Helminthosporium halodes, Helminthosporium interseminatum) | Drechslera halodes (Setomelanomma rostrata, Helminthosporium halodes).
m9 | Fusarium moniliforme (Fusarium proliferatum) | Fusarium moniliforme (Fusarium proliferatum).
m10 | Stemphylium botryosum | Stemphylium herbarum (Stemphylium botryosum).
m11 | Rhizopus nigricans | Rhizopus nigricans.
m12 | Aureobasidium pullulans | Aureobasidium pullulans.
m13 | Phoma betae | Phoma betae.
m14 | Epicoccum purpurascens | Epicoccum purpurascens (Epicoccum nigrum).
m15 | Trichoderma viride | Trichoderma viride.
m16 | Curvularia lunata | Curvularia lunata Curvularia specifera (K923044).
m17 | Cladosporium fulvum | Cladosporium fulvum.
m18 | Fusarium culmorum | Fusarium culmorum.
m19 | Aspergillus versicolor | Aspergillus versicolor.
m20 | Mucor mucedo | Mucor mucedo.
m21 | Aspergillus clavatus | Aspergillus clavatus.
m22 | Micropolyspora faeni | Saccharopolyspora rectivirgula (Micropolyspora faeni).
m23 | Thermoactinomyces vulgaris | Thermoactinomyces vulgaris.
m24 | Stachybotrys atra | Stachybotrys chartarum (Stachybotrys atra).
m24 | Paecilomyces spp | Paecilomyces spp.
m25 | Aspergillus versicolor | Aspergillus versicolor.
m25 | Penicillium brevicompactum | Penicillium brevicompactum.
m26 | Cladosporium cladosporioides | Cladosporium cladosporioides.
m26 | Penicillium citrinum | Penicillium citrinum.
m27 | Penicillium spp | Penicillium spp.
m29 | Aspergillus repens | Aspergillus repens.
m30 | Penicillium roqueforti | Penicillium roqueforti.
m32 | Cladosporium cladosporioides | Cladosporium cladosporioides.
m34 | Serpula lacrymans | Serpula lacrymans.
m36 | Aspergillus terreus | Aspergillus terreus.
m37 | Trichophyton mentagrophytes | Trichophyton mentagrophytes.
m40 | Aspergillus amstelodami | Aspergillus amstelodami.
m43 | Saccharomyces carlsberg | Saccharomyces carlsbergensis.
m44 | Saccharomyces cerevisiae | Saccharomyces cerevisiae.
m45 | Hormodendrum hordei | Hormodendrum hordei.
m46 | Bipolaris spicifera | Bipolaris spicifera.
m47 | Aspergillus nidulans | Aspergillus nidulans.
m48 | Aspergillus oryzae | Aspergillus oryzae.
m49 | Fusarium oxysporum | Fusarium oxysporum.
m50 | Micropolyspora faeni | Saccharopolyspora rectivirgula (Micropolyspora faeni).
m51 | Thermoactinomyces vulgaris | Thermoactinomyces vulgaris.
m53 | Microspora canis | Microsporum canis (Microspora canis).
m54 | Aspergillus flavus | Aspergillus flavus.
m63 | Helminthosporium intersemin | Helminthosporium intersemin.
m66 | Mucor plumbeus | Mucor plumbeus.
m67 | Mycogone | Mycogone perniciosa.
m68 | Nigrospora oryzae | Nigrospora oryzae.
m69 | Rhodotorula | Rhodotorula rubra (Rhodotorula mucilaginosa).
m70 | Malassezia furfur (Pityrosporum orbiculare) | Malassezia furfur (Pityrosporum orbiculare).
m71 | Spondylocladium | Spondylocladium spp.
m72 | Epidermophyton | Epidermophyton floccosum.
m73 | Epicoccum nigrum | Epicoccum purpurascens (Epicoccum nigrum).
m80 | Staphylococcal enterotoxin A (Sta a SEA) | Staphylococcus aureus.
m80 | Helminthosporium spp | Helminthosporium spp.
m81 | Staphylococcal enterotoxin B (Sta a SEB) | Staphylococcus aureus.
m88 | Stemphylium solani | Stemphylium solani.
m93 | Gliocladium fimbriatum | Gliocladium fimbriatum.
m94 | Phycomyces blakesleeanus | Phycomyces blakesleeanus.
m201 | Tilletia tritici (Ustilago nuda, Ustilago tritici) (Barley smut) | Tilletia tritici (Ustilago nuda, Ustilago tritici).
m202 | Acremonium kiliense (Cephalosporium acremonium) | Acremonium kiliense (Cephalosporium acremonium).
m203 | Trichosporon pullulans | Trichosporon pullulans.
m204 | Ulocladium chartarum | Ulocladium chartarum.
m205 | Trichophyton rubrum | Trichophyton rubrum.
m207 | Aspergillus niger | Aspergillus niger.
m208 | Chaetomium globosum | Chaetomium globosum.
m209 | Penicillium frequentans | Penicillium glabrum (Penicillium frequentans).
m209 | Stachybotrys chartarum | Stachybotrys chartarum (Stachybotrys atra).
m210 | Trichophyton mentagrophytes var. goetzii | Trichophyton mentagrophytes var. goetzii.
m211 | Trichophyton mentagrophytes var. interdigitale | Trichophyton mentagrophytes var. interdigitale.
m211 | Oat smut | Ustilago avenae.
m212 | Micropolyspora faeni | Saccharopolyspora rectivirgula (Micropolyspora faeni).
m212 | Geotrichum candidum | Geotrichum candidum.
m213 | Bermuda grass smut | Ustilago cynodontis.
m214 | Johnson grass smut | Sphacelotheca cruenta.
m215 | Corn smut | Ustilago maydis.
m218 | Asp f 1.0101 | Aspergillus fumigatus.
a3050 | Asp r 1 | Aspergillus restrictus.
m219 | Asp f 2 | Aspergillus fumigatus.
m220 | Asp f 3.0101 | Aspergillus fumigatus.
m221 | Asp f 4 | Aspergillus fumigatus.
m222 | Asp f 6.0101 | Aspergillus fumigatus.
m223 | Staphylococal enterotoxin C (Sta a SEC) | Staphylococus aureus.
m224 | Staphylococcal enterotoxin D (Sta a SED) | Staphylococcus aureus.
m226 | Staphylococcal enterotoxin TSST (Sta a TSST) | Staphylococcus aureus.
m227 | Malassezia spp. (Pityrosporum spp.) | Malassezia spp. (Pityrosporum spp.).
m228 | Aspergillus flavus. |
m229 | Alt a 1.0101 | Alternaria alternata (Alternaria tenuis).
m230 | Alt a 6.0101 | Alternaria alternata (Alternaria tenuis).
m231 | Cla h 8.0101 | Cladosporium herbarum (Hormodendrum).
m300 | Eurotium spp. | Eurotium spp.
m304 | Aspergillus oryzae | Aspergillus oryzae.
m305 | Penicillium brevicompactum | Penicillium brevicompactum.
m309 | Aspergillus terreus | Aspergillus terreus.
m310 | Aspergillus nidulans | Aspergillus nidulans.
m311 | Aspergillus flavus | Aspergillus flavus.
m312 | Aspergillus clavatus | Aspergillus clavatus.
Epidermal & Animal
e6 | Guinea pig epithelium | Cavia porcellus.
e7 | Pigeon droppings | Columba palumbus, Columba livia.
e25 | Chicken serum | Gallus domesticus (Gallus gallus domesticus; Gallus spp.).
e26 | Parrot serum | Psittacoidea spp.
e62 | Camel | Camelus dromedaries.
e70 | Goose feathers | Anser anser.
e71 | Mouse epithelium | Mus musculus (Mus spp.).
e73 | Rat epithelium | Rattus norvegicus.
e74 | Rat urine proteins | Rattus norvegicus Rattus rattus.
e75 | Rat serum proteins | Rattus norvegicus Rattus rattus.
e76 | Mouse serum proteins | Mus musculus (Mus spp.).
e77 | Budgerigar droppings | Melopsittacus undulatus.
e78 | Budgerigar feathers | Melopsittacus undulatus.
e79 | Budgerigar serum proteins | Melopsittacus undulatus.
e80 | Goat epithelium | Capra hircus.
e81 | Sheep epithelium | Ovis aries (Ovis spp.).
e82 | Rabbit epithelium | Oryctolagus cuniculus (Oryctolagus spp.).
e83 | Swine epithelium | Sus scrofa (Sus scrofa domesticus; Sus spp.).
e84 | Hamster epithelium | Cricetus cricetus, Mesocricetus auratus, and Phodopus sungorus.
e85 | Chicken feathers | Gallus domesticus (Gallus gallus domesticus; Gallus spp.).
e86 | Duck feathers | Anas platyrhynchos.
e87 | Rat epithelium, serum proteins, and urine proteins | Rattus norvegicus Rattus rattus.
e88 | Mouse epithelium, serum proteins, and urine proteins (mouse) | Mus musculus (Mus spp.).
e89 | Turkey feathers | Meleagris gallopavo.
e90 | Budgerigar serum proteins, feathers, and droppings | Melopsittacus undulatus.
e91 | Pigeon serum proteins, feathers, and droppings | Streptopelia roseogrisea Psittacidae spp.
e92 | Parrot serum proteins, feathers, and droppings | Ara spp.
e93 | Pigeon serum proteins | Streptopelia roseogrisea.
e94 | Fel d 1.0101 | Felis domesticus.
a345 | Fel d 1 | Felis domesticus.
e98 | Parrot droppings | Psittacoidea spp.
e101 | Can f 1.0101 | Canis familiaris (Canis domesticus).
a174 | Can f 1 | Canis familiaris (Canis domesticus).
e102 | Can f 2.0101 | Canis familiaris (Canis domesticus).
e196 | Parakeet feathers | Nymphicus hollandicus.
e197 | Parakeet droppings | Nymphicus hollandicus.
e198 | Parakeet serum | Nymphicus hollandicus.
e199 | Canary bird serum | Serinus canarius.
e200 | Canary bird droppings | Serinus canarius.
e201 | Canary bird feathers (Canary feathers) | Serinus canarius.
e202 | Reindeer epithelium | Rangifer tarandus.
e203 | Mink epithelium | Mustela spp.
e204 | Bos d 6 | Bos domesticus (Bos taurus; Bos spp.).
e205 | Horse, serum proteins | Equus caballus (Equus spp.).
e206 | Rabbit, serum proteins | Oryctolagus cuniculus (Oryctolagus spp.).
e208 | Chinchilla epithelium | Chinchilla laniger.
e209 | Gerbil epithelium | Meriones unguiculatus.
e210 | Fox epithelium | Vulpes vulpes.
e211 | Rabbit, urine proteins | Oryctolagus cuniculus (Oryctolagus spp.).
e212 | Swine, urine proteins | Sus scrofa (Sus scrofa domesticus; Sus spp.).
e213 | Parrot feathers | Ara spp.
e214 | Finch feathers | Lonchura domestica.
e215 | Pigeon feathers | Streptopelia roseogrisea (Streptopelia spp.), Columbia spp.
e216 | Deer epithelium | Dama dama.
e217 | Ferret epithelium | Mustela putorius.
e218 | Chicken droppings | Gallus domesticus (Gallus gallus domesticus; Gallus spp.).
e219 | Chicken, serum proteins | Gallus domesticus (Gallus gallus domesticus; Gallus spp.).
e220 | Fel d 2, Cat serum albumin | Felis domesticus.
e221 | Can f 3 | Canis familiaris (Canis domesticus) (Dog serum albumin).
e222 | Swine serum albumin (Sus s PSA) | Sus scrofa (Sus scrofa domesticus; Sus spp.).
e225 | Lovebird feathers | Psittacoidea agapomis.
e226 | Can f 5.0101 | Canis familiaris.
e227 | Equ c 1.0101 | Equus caballus.
e228 | Fel d 4.0101 | Felis domesticus.
e230 | Equ c 3 | Equus caballus.
e231 | Mus m 1 | Mus musculus.
Food
f9 | Rice | Oryza sativa.
f12 | Pea (green pea) | Pisum sativum.
f15 | White bean | Phaseolus vulgaris.
f19 | Cayenne pepper | Capsicum frutescens, (Capsicum annum).
f21 | Sugar cane | Saccharum officinarum.
f22 | Raspberry | Rubus idaeus.
f26 | Pork | Sus scrofa (Sus scrofa domesticus; Sus spp.).
f29 | Watermelon | Citrullus lanatus (Citrullus vulgaris).
f31 | Carrot | Daucus carota.
f32 | Oyster mushroom | Pleurotus ostreatus.
f33 | Orange | Citrus sinensis.
f35 | Potato | Solanum tuberosum.
f43 | Mother's milk | Homo sapiens.
f44 | Strawberry | Fragaria vesca (Fragaria spp.).
f45 | Yeast, baker's | Saccharomyces cerevisiae.
f46 | Pepper, Red | Capsicum annuum.
f47 | Garlic | Allium sativum.
f48 | Onion | Allium cepa.
f49 | Apple | Malus x domestica (Malus spp.).
f51 | Bamboo shoot | Phyllostachys pubescens.
f52 | Cacao/chocolate | Theobroma cacao.
f54 | Sweet potato | Ipomoea batatas.
f55 | Common millet | Panicum miliaceum.
f56 | Foxtail millet | Setaria italica.
f57 | Japanese millet | Echinochloa crus-galli.
f58 | Pacific squid | Todarodes pacificus.
f59 | Octopus | Octopus vulgaris (Octopus spp.).
f63 | Kefir | NA.
f67 | Parmesan cheese | NA.
f81 | Cheese, cheddar type | NA.
f82 | Cheese, mold type | NA.
f83 | Chicken | Gallus domesticus (Gallus gallus domesticus; Gallus spp.).
f86 | Parsley | Petroselinum crispum.
f87 | Melon | Cucumis melo Cucumis melo + Citrullus lanatus.
f88 | Mutton (lamb) | Ovis aries (Ovis spp.).
f90 | Malt | Hordeum vulgare.
f92 | Banana | Musa spp.
f93 | Cacao | Theobroma cacao.
f94 | Pear | Pyrus communis (Pyrus spp.).
f97 | Yam | Dioscorea spp., Dioscorea opposita.
f97 | Chamomile tea | Matricaria chamomilla.
f98 | Gliadin | Triticum aestivum (Triticum spp.).
f102 | Cantaloupe | Cucumis melo var. cantalupensis.
f105 | Chocolate | Theobroma cacao.
f109 | Cottonseed | Gossypium hirsutum.
f110 | Giant radish | Raphanus sativus.
f118 | Zucchini | Cucurbita pepo.
f119 | Radish | Raphanus sativus.
f120 | Venison | Capreolus capeolus.
f121 | Pinto bean | Phaseolus vulgaris.
f122 | Cheese, American | NA.
f127 | Black-eyed pea | Vigna unguiculata.
f131 | Black Olive | Olea europaea.
f136 | Red beet | Beta vulgaris var. conditiva.
f139 | Goat's Cheese | Capra aegagrus.
f140 | Bran | NA.
f141 | Corn (vegetables) | Zea mays.
f152 | Green bell pepper | Capsicum annuum.
f155 | Brewer's yeast | Saccharomyces carlsbergensis.
f157 | Duck | Anas domesticus.
f158 | Goose | Anser anser.
f160 | Camembert cheese | NA.
f162 | Nectarine | Prunus persica var. nucipersica.
f163 | Kohlrabi | Brassica oleracea var. gongylodes.
f65 | Perch |
f166 | Leek | Allium porrum.
f170 | Cheese (Switzerland) (Swiss cheese) | NA.
f174 | Fig | Ficus carica.
f177 | Cranberry | Vaccinium macrocarpon.
f179 | Raisin | Vitis spp.
f182 | Lima bean | Phaseolus lunatus.
f198 | Flaxseed (bruised grain) | Linum usitatissimum.
f199 | Untreated native milk | Bos domesticus (Bos taurus; Bos spp.).
f208 | Lemon | Citrus limon.
f209 | Grapefruit | Citrus paradisi.
f210 | Pineapple | Ananas comosus.
f211 | Blackberry | Rubus fruticosus.
f212 | Mushroom (champignon) | Agaricus hortensis (Agaricus spp.).
f213 | Rabbit | Oryctolagus cuniculus (Oryctolagus spp.).
f214 | Spinach | Spinacia oleracea.
f215 | Lettuce | Lactuca sativa.
f216 | Cabbage | Brassica oleracea var. capitata.
f217 | Brussels sprouts | Brassica oleracea var. gem.
f218 | Paprika, sweet pepper | Capsicum annuum.
f219 | Fennel seed | Foeniculum vulgare.
f219 | Sage | Salvia officinalis.
f220 | Cinnamon | Cinnamomum spp.
f221 | Coffee | Coffea spp.
f222 | Tea | Camellia sinensis.
f223 | Green olive | Olea europaea.
f225 | Summer squash, pumpkin | Cucurbita pepo.
f225 | Pumpkin | Cucurbita maxima.
f226 | Pumpkin seed | Cucurbita pepo.
f227 | Sugar-beet seed | Beta vulgaris.
f229 | Safflower Seed | Carthamus tinctorius.
f231 | Milk, boiled | Bos domesticus (Bos taurus; Bos spp.).
f234 | Vanilla | Vanilla planifolia.
f237 | Apricot | Prunus armeniaca.
f241 | Gouda cheese | NA.
f242 | Cherry | Prunus avium.
f244 | Cucumber | Cucumis sativus.
f246 | Guar, guar gum | Cyamopsis tetragonoloba.
f247 | Honey | NA.
f248 | Rosemary | Rosmarinus officinalis.
f254 | Plaice | Pleuronectes platessa.
f255 | Plum | Prunus domestica, Prunus americana.
f258 | Squid | Loligo spp.
f259 | Grape | Vitis vinifera (Vitis spp.).
f260 | Broccoli | Brassica oleracea var. italica (Brassica oleracea var. cultivar).
f261 | Asparagus | Asparagus officinalis.
f262 | Aubergine, eggplant | Solanum melongena.
f263 | Green pepper | Piper nigrum, Capsicum annuum.
f264 | Eel | Anguilla anguilla.
f265 | Caraway | Carum carvi.
f265 | Cumin | Cuminum cyminum.
f266 | Mace | Myristica fragrans.
f267 | Cardamon | Elettaria cardamomum.
f268 | Clove | Syzygium aromaticum.
f269 | Basil | Ocimum basilicum.
f270 | Ginger | Zingiber officinale.
f271 | Anise | Pimpinella anisum.
f272 | Tarragon | Artemisia dracunculus.
f273 | Thyme | Thymus vulgaris.
f274 | Marjoram | Origanum majorana.
f275 | Lovage | Levisticum officinale.
f276 | Fennel, fresh | Foeniculum vulgare.
f277 | Dill | Anethum graveolens.
f278 | Bay leaf | Laurus nobilis.
f279 | Chili pepper | Capsicum frutescens.
f280 | Black pepper | Piper nigrum.
f281 | Curry (Santa Maria) | NA.
f282 | Nutmeg | Myristica fragrans.
f283 | Oregano | Origanum vulgare.
f284 | Turkey meat | Meleagris gallopavo.
f285 | Elk/moose meat | Alces spp.
f286 | Mare's milk | Equus caballus (Equus spp.).
f287 | Red kidney bean | Phaseolus vulgaris.
f288 | Blueberry | Vaccinium myrtillus (Vaccinium spp.).
f289 | Date | Phoenix dactylifera.
f291 | Cauliflower | Brassica oleracea var. botrytis.
f292 | Guava | Psidium guajava.
f293 | Papaya | Carica papaya.
f294 | Passion fruit, Maracuja | Passiflora edulis (Passiflora spp.).
f295 | Carambola | Averrhoa carambola.
f296 | Carob | Ceratonia siliqua.
f297 | Gum arabic | Acacia senegal (Acacia spp.).
f298 | Tragacanth | Astragalus spp.
f299 | Sweet chestnut (chestnut) | Castanea sativa.
f300 | Pinto bean | Phaseolus spp.
f301 | Persimmon (kaki fruit, sharon) | Diospyros kaki.
f302 | Mandarin (tangerine, clementine, satsumas) | Citrus reticulata.
f305 | Fenugreek | Trigonella foenum-graecum.
f306 | Lime | Citrus aurantifolia.
f307 | Hake | Merluccius merluccius.
f308 | Sardine (pilchard) | Sardina pilchardus.
f310 | Blue vetch | Lathyrus sativus.
f311 | Megrim | Lepidorhombus whiffiagonis.
f315 | Green bean | Phaseolus vulgaris.
f316 | Rape seed | Brassica napus.
f317 | Coriander | Coriandrum sativum.
f318 | Jack fruit | Artocarpus heterophyllus.
f319 | Beetroot | Beta vulgaris.
f320 | Crayfish | Astacus astacus.
f321 | Horse meat | Equus caballus (Equus spp.).
f322 | Red currant | Ribes sylvestre.
f324 | Hop (fruit cone) | Humulus lupulus.
f325 | Saffron | Colchicum autumnale.
f328 | Fig | Ficus carica.
f329 | Watermelon | Citrullus lanatus.
f330 | Rose hip | Rosa spp.
f331 | Saffron | Crocus sativus.
f332 | Mint | Mentha piperita.
f333 | Linseed | Linum usitatissimum.
f336 | Jujube | Ziziphus jujuba.
f336 | Wine vinegar | Vitis vinifera (Vitis spp.).
f337 | Sole | Solea solea.
f337 | English sole | Parophrys vetulus.
f338 | Wine, white | Vitis vinifera (Vitis spp.).
f339 | Allspice | Pimenta dioica.
f339 | Wine, red | Vitis vinifera (Vitis spp.).
f341 | Cranberry | Vaccinium oxycoccus, Vaccinium macrocarpon.
f342 | Olive (black, fresh) | Olea europaea.
f343 | Raspberry | Rubus idaeus.
f344 | Sage | Salvia officinalis.
f346 | Chives | Allium schoenoprasum.
f347 | Quinoa | Chenopodium quinoa.
f348 | Litchi | Litchi chinensis.
f349 | Chum salmon roe | Oncorhynchus keta.
f358 | Artichoke | Cynara scolymus.
f360 | Yogurt | NA.
f368 | Black bass | Micropterus dolomieu (Micropterus dolomieui).
f374 | Karaya gum | Sterculia urens.
f375 | Horseradish | Armoracia rusticana.
f377 | Maple syrup | NA.
f379 | Okra | Abelmoschus esculentus.
f382 | Beet, sugar | Beta vulgaris var. altissima.
f401 | Loquat | Eriobotrya japonica.
f402 | Fig | Ficus carica.
f403 | Brewer's yeast | Saccharomyces cerevisiae.
f405 | Mint | Mentha spp.
f406 | Arugula | Eruca vesicaria.
House Dust
h1 | Greer Labs., Inc | NA.
h2 | Hollister-Stier Labs | NA.
h6 | Japan | NA.
Venoms & Insects
i7 | Midge | Chironomus yoshimatsui.
i8 | Moth | Bombyx mori, Heterocera spp.
i47 | Water flea | Daphnia spp.
i49 | Deer fly | Chrysops spp.
i51 | Black ant | Camponotus pennsylvanicus.
i54 | Flea mix (dog/cat), common flea | Ctenocephalides spp.
i71 | Mosquito | Aedes communis, Aedes spp. and Culex spp.
i72 | Green nimitti | Cladotanytarsus lewisi.
i73 | Blood worm | Chironomus thummi, Chironomusri parius, Chironomus spp.
i75 | European hornet | Vespa crabro.
i76 | Berlin beetle | Trogoderma angustum.
i77 | European paper wasp | Polistes dominulus.
i78 | Fly | Musca domestica.
i80 | Bumblebee | Bombus pennsylvanicus.
i201 | Horse bot fly | Gasterophilus intestinalis.
i202 | Grain weevil | Sitophilus granarius.
i203 | Mediterranean flour moth | Ephestia kuehniella (Anagasta kuehniella).
i204 | Horse fly | Tabanus spp.
i205 | Bumblebee | Bombus terrestris.
i208 | Api m 1.0101 | Apis mellifera.
a45 | Api m 1 | Apis mellifera.
i209 | Ves v 5.0101 | Vespula vulgaris.
a670 | Ves v 5 | Vespula vulgaris.
i210 | Pol d 5.0101 | Polistes dominulus.
i211 | Ves v 1.0101 | Vespula vulgaris.
i213 | Api m 4 | Apis mellifera.
i214 | Api m 2 | Apis mellifera.
i215 | Api m 3 | Apis mellifera.
i216 | Api m 5 | Apis mellifera.
i217 | Api m 10 | Apis mellifera.
i220 | Bla g 1.0101 | Blattella germanica.
i221 | Bla g 2.0101 | Blattella germanica.
i222 | Bla g 5.0101 | Blattella germanica.
i223 | Bla g 7 | Blattella germanica.
a46 | Api m 2 | Apis mellifera.
Miscellaneous
o1 | Cotton, crude fibers | Gossypium spp.
o3 | Cotton (treated) | Gossypium spp.
o70 | Seminal fluid | Homo sapiens.
o71 | Staphylococcus aureus | Staphylococcus aureus.
o72 | Pichia pastoris crude extract customer specific | Pichia pastoris.
o72 | Sperm-sediment | Homo sapiens.
o73 | Pichia pastoris crude extr. vector customer specific | Pichia pastoris.
o74 | Pichia pastoris with vector customer specific | Pichia pastoris.
o201 | Tobacco leaf, tobacco dust | Nicotiana tabacum.
o202 | Artemia salina, fish feed | Artemia salina.
o203 | Tetramin, fish feed | NA.
o207 | Daphnia, fish feed | Daphnia spp.
o211 | Mealworm | Tenebrio molitor.
o212 | Streptavidin | Streptomyces avidini.
o213 | MBP (maltose binding protein) | Escherichia coli.
o214 | CCD; MUXF3 from bromelain | Ananas comosus.
o72 | Enterotoxin A (Sta a SEA) | Staphylococcus aureus.
o73 | Enterotoxin B (Sta a SEB) | Staphylococcus aureus.
Parasites
p1 | Ascaris | Ascaris suum.
p2 | Echinococcus | Echinococcus granulosus.
p3 | Schistosoma | Schistosoma mansoni.
p4 | Anisakis (Herring Worm) | Anisakis simplex (Anisakis spp.).
p5 | Toxocara canis | Toxocara canis.
p10 | Ani s 3.0101 | Anisakis simplex (Anisakis spp.).
p11 | Ani s 1 | Anisakis simplex (Anisakis spp.).
Occupational
k4 | Threshing dust | NA.
k5 | Flax | NA.
k7 | Hay Dust | NA.
k8 | Hop (hops) | Humulus lupulus.
k12 | Grain mill dust | NA.
k14 | Kapok | NA.
k20 | Sheep's wool (treated) (wool) | Ovis aries (Ovis spp.).
k21 | Sheep's wool (Untreated) | Ovis aries (Ovis spp.).
k23 | Straw Dust | NA.
k33 | Oak | NA.
k70 | Green coffee bean | Coffea spp.
k71 | Castor bean | Ricinus communis.
k72 | Ispaghula | Plantago psyllium/Plantago ovata.
k73 | Silk waste | NA.
k74 | Silk | Bombyx mori.
k75 | Isocyanate TDI (Toluene diisocyanate) | NA.
k76 | Isocyanate MDI (Diphenylmethane diisocyanate) | NA.
k77 | Isocyanate HDI (Hexamethylen diisocyanate) | NA.
k78 | Ethylene oxide | NA.
k79 | Phthalic anhydride | NA.
k80 | Formaldehyde/Formalin | NA.
k81 | Ficus | Ficus benjamina (Ficus spp.).
k83 | Cotton seed | Gossypium hirsutum.
k84 | Sunflower seed | Helianthus annuus.
k85 | Chloramin T | NA.
k86 | Trimellitic anhydride, TMA | NA.
k87 | Asp o 21, alpha-amylase | Aspergillus oryzae.
k89 | Orris root | Iris florentina.
k99 | HSA (Human Serum Albumin) (Hom s HSA) | Homo sapiens.
k201 | Car p 1, Papain | Carica papaya.
k202 | Ana c 2, Bromelain | Ananas comosus.
k204 | Maxatase | Bacillus licheniformis.
k205 | Alcalase | Bacillus spp.
k206 | Savinase, Protease 1 (Bac l Subtilisin) | Bacillus spp.
k208 | Gal d 4, Lysozyme | Gallus domesticus (Gallus gallus domesticus; Gallus spp.).
k209 | Hexahydrophtalic anhydrid | NA.
k210 | Maleic anhydride | NA.
k211 | Methyltetrahydrophtalic anhydrid | NA.
k212 | Abachi wood dust | Triplochiton scleroxylon.
k213 | Pepsin (Sus s Pepsin) | Sus scrofa (Sus scrofa domesticus; Sus spp.).
k213 | TCPA | NA.
k214 | Bougainvillea | Bougainvillea spp.
k225 | Horse radish peroxidase (Arm r HRP) | Armoracia rusticana.
k226 | Ascorbate oxidase (Cuc p ascorbate oxidase) | Cucurbita pepo.
k301 | Flour dust | Triticum spp.
k501 | Savinase customer specific | Proprietary knowledge of customer.
k502 | Lipolase customer specific | Proprietary knowledge of customer.
k503 | Termamyl customer specific | Proprietary knowledge of customer.
k504 | Clazinase customer specific | Proprietary knowledge of customer.

V. Reference

The following reference is on display in the Division of Dockets Management (see ADDRESSES) and is available for viewing by interested persons between 9 a.m. and 4 p.m., Monday through Friday; it is also available electronically at https://www.regulations.gov. FDA has verified the Web site address, as of the date this document publishes in the Federal Register, but Web sites are subject to change over time.

1. FDA Guidance, “Procedures for Class II Device Exemptions from Premarket Notification, Guidance for Industry and CDRH Staff,” February 19, 1998, available at http://www.fda.gov/downloads/MedicalDevices/DeviceRegulationandGuidance/GuidanceDocuments/UCM080199.pdf.

Dated: March 8, 2017.
Leslie Kux,
Associate Commissioner for Policy.

[FR Doc. 2017-04938 Filed 3-13-17; 8:45 am]

BILLING CODE 4164-01-P